ELECTION ASSISTANCE COMMISSION

Sunshine Act Notice

AGENCY: U.S. Election Assistance Commission.

ACTION: Notice of Public Meeting and Hearing Agenda.

DATE AND TIME: Wednesday, August 18, 2010, 1-4:30 p.m. EDT.

PLACE: Hyatt Regency Grand Cypress, 1 Grand Cypress Boulevard, Orlando, FL 32836, (407) 239-1234.

MEETING AGENDA: The Commission will hold a public meeting to discuss the following matters: (1) The EAC Election Day Survey; and (2) voting system test suites. Commissioners will consider other administrative matters.

HEARING AGENDA: The Commission will conduct a public hearing to receive testimony on proposed changes to its regulations pertaining to the National Voter Registration Act (NVRA). Members of the public who wish to speak at the hearing regarding the proposed NVRA regulations may send a request to participate to the EAC via e-mail to testimony@eac.gov by 5 p.m. EDT August 16, 2010. Members of the public may also sign up at the public meeting as long as they do so before the public hearing begins and the EAC has not already received a maximum of ten requests via email to testify at the hearing. Due to time constraints, the EAC can select no more than ten of those who request to participate. Each participant will be allotted three-minutes each to share their viewpoint. Participants will be selected on a first-come, first-served basis. However, to maximize diversity of input, only one participant per organization or entity will be chosen. Participants may also submit written testimony to be published at http://www.eac.gov. All requests to testify at the public hearing submitted by 5 p.m. EDT on August 16, 2010, must include a description of what will be said, contact information which will be used to notify the requestor of the status of his/her request (phone number on which a message may be left or e-mail), and include the subject/attention line (or on the envelope if by mail): Testimony on proposed NVRA regulations. Please note that testimony will be available to the public at http://www.eac.gov.

Written testimony from members of the public regarding proposed NVRA regulations will also be accepted. This testimony will be included as part of the written record of the hearing, and available on our website. Written testimony must be submitted before the end of the public hearing, and received by 4:30 p.m. EDT on Aug 18, 2010. Written testimony should be submitted via e-mail at testimony@eac.gov, via mail addressed to the U.S. Election Assistance Commission 1201 New York Avenue NW., Suite 300, Washington, DC 20005, or by fax at 202-566-1392. All correspondence that contains written testimony must have in the subject/attention line (or on the envelope if by mail): Written testimony on proposed NVRA regulations.

Members of the public may observe but not participate in EAC meetings unless this notice provides otherwise. Members of the public may use small electronic audio recording devices to record the proceedings. The use of other recording equipment and cameras requires advance notice to and coordination with the Commission's Communications Office.*

*View EAC Regulations Implementing Government in the Sunshine Act.

THIS MEETING AND HEARING WILL BE OPEN TO THE PUBLIC.

PERSON TO CONTACT FOR INFORMATION: Bryan Whitener, Telephone: (202) 566-3100.

Donetta Davidson,
Chair, U.S. Election Assistance Commission.

[FR Doc. 2010-19513 Filed 8-4-10; 4:15 pm]

BILLING CODE 6820-KF-P